FEDERAL COMMUNICATIONS COMMISSION

47 CFR Part 73

[DA 06-383; MB Docket No. 04-432; RM-11121]

Radio Broadcasting Services; Grand Portage, MN

AGENCY: Federal Communications Commission.

ACTION: Final rule.

SUMMARY: The Audio Division, at the request of Cook County Broadcasting of Minnesota, allots Channel 274C at Grand Portage, Minnesota, as the community's third local FM service. The Canadian government has concurred in a specially-negotiated, short-spaced allotment limited to 50W ERP and 100 meters HAAT to protect Channel 274A1 in Thunder Bay, Ontario. With those limitations, Channel 274C can be allotted to Grand Portage, Minnesota, in compliance with the Commission's minimum distance separation requirements at city reference coordinates without site restriction. The coordinates for Channel 274C at Grand Portage, Minnesota, are 47-57-50 North Latitude and 89-41-05 West Longitude.

DATES: Effective April 10, 2006.

FOR FURTHER INFORMATION CONTACT: Deborah Dupont, Media Bureau, (202) 418-2180.

SUPPLEMENTARY INFORMATION: This is a synopsis of the Commission's Report and Order, MB Docket No. 04-433, adopted February 22, 2006, and released February 24, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Minnesota, is amended by adding Channel 274C at Grand Portage.

Federal Communications Commisssion.
John A. Karousos,
Assistant Chief, Audio Division, Media Bureau.

[FR Doc. 06-2488 Filed 3-14-06; 8:45 am]

BILLING CODE 6712-01-P